CORPORATION FOR NATIONAL AND COMMUNITY SERVICE

Information Collection; Submission for OMB Review, Comment Request

AGENCY: Corporation for National and Community Service.

ACTION: Notice.

SUMMARY: The Corporation for National and Community Service (hereinafter the “Corporation”) has submitted a public information collection request (ICR) entitled CNCS Application Instructions and Reporting Questions to the Office of Management and Budget (OMB) for review and approval in accordance with the Paperwork Reduction Act of 1995, Pub. L. 104-13 (44 U.S.C. Chapter 35). Copies of this ICR, with applicable supporting documentation, may be obtained by calling the Corporation for National and Community Service, Ms. Amy Borgstrom at (202) 606-6930. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on Tuesday, February 13, 2008. This comment period ended April 14, 2008. No public comments were received from this Notice. Corporation staff provided two comments. Three staff commenters suggested raising the number of annual respondents from 600 to 2,000 based on our experience with such competitions conducted by the Corporation. This suggestion has been incorporated. Another staff commenter suggested incorporating the questions used for annual reporting for successful applicants in this information collection. This suggestion has also been incorporated.

Description: The Corporation is soliciting comments concerning application instructions designed to be used for grant competitions which the Corporation sponsors from time to time. These competitions are designed and conducted, when appropriations are available, to address the Corporation's strategic initiatives or other priorities. Applicants will respond to the questions included in these instructions in order to apply for funding in these Corporation competitions. Successful applicants will report on an annual basis on their progress using the attached Annual Reporting Questions. Their Annual Reports will provide information for Corporation staff to monitor grantee progress, and to respond to requests from Congress and other stakeholders.

Type of Review: New Information Collection.

Agency: Corporation for National and Community Service.

Title: CNCS Application Instructions and Reporting Questions.

OMB Number: None.

Agency Number: Potential beneficiaries.

Total Respondents: 2,000 applicants and 200 successful applicants.

Frequency: Annually.

Average Time per Response: 8 hours to apply and 8 hours to report.

Estimated Total Burden Hours: 17,600 hours.

Total Burden Cost (capital/startup): None.

Total Burden Cost (operating/maintenance): None.

Dated: May 21, 2008.
David Eisner,
CEO, Corporation for National and Community Service.

[FR Doc. E8-12488 Filed 6-3-08; 8:45 am]

BILLING CODE 6050-$$-P